DEPARTMENT OF THE INTERIOR

National Indian Gaming Commission

25 CFR Part 537

RIN 3141-AA58

Management Contracts

Correction

In rule document 2022-24135, appearing on pages 68046-68048 in the issue of Monday, November 14, 2022, make the following correction:

On page 68048 in the first column, instruction 2 is corrected to read “Amend § 537.1 by revising paragraphs (a)(3) through (5), and adding paragraph (d) to read as follows:” and the text of paragraphs (a)(1) and (2) are reinstated, and the corrected text of paragraphs (a)(3) through (5) are set forth below.”

§ 537.1 Applications for approval [Corrected].

(a) * * *

(1) Each person with management responsibility for a management contract;

(2) Each person who is a director of a corporation that is a party to a management contract;

(3) All persons who have 10 percent or more or indirect financial interest in a management contract;

(4) All entities with 10 percent or more financial interest in a management contract; and

(5) Any other person or entity with a direct or indirect financial interest in a management contract otherwise designated by the Commission.

* * * * *

[FR Doc. C1-2022-24135 Filed 3-28-23; 8:45 am]

BILLING CODE 0099-10-D